DEPARTMENT OF TRANSPORTATION

Federal Aviation Administration

14 CFR Part 39

[Docket No. FAA-2021-0944; Project Identifier MCAI-2020-00800-G]

RIN 2120-AA64

Airworthiness Directives; Fiberglas-Technik Rudolf Lindner GmbH & Co. KG (Type Certificate Previously Held by GROB Aircraft AG, Grob Aerospace GmbH i.l., Grob Aerospace GmbH, Burkhart Grob Luft-und Raumfahrt GmbH & Co. KG) Gliders

AGENCY: Federal Aviation Administration (FAA), DOT.

ACTION: Notice of proposed rulemaking (NPRM).

SUMMARY: The FAA proposes to adopt a new airworthiness directive (AD) for all Fiberglas-Technik Rudolf Lindner GmbH & Co. KG (type certificate previously held by GROB Aircraft AG, Grob Aerospace GmbH i.l., Grob Aerospace GmbH, Burkhart Grob Luft-und Raumfahrt GmbH & Co. KG) Model G102 ASTIR CS, G103 TWIN ASTIR, G103 TWIN II, G103A TWIN II ACRO, G103C TWIN III ACRO, and G 103 C TWIN III SL gliders. This proposed AD was prompted by mandatory continuing airworthiness information (MCAI) issued by the aviation authority of another country to identify and correct an unsafe condition on an aviation product. The MCAI describes the unsafe condition as corrosion on the elevator control pushrod. This proposed AD would require inspecting the elevator control pushrod for water and corrosion and replacing the pushrod if necessary. The FAA is proposing this AD to address the unsafe condition on these products.

DATES: The FAA must receive comments on this proposed AD by December 13, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Fiberglas-Technik Rudolf Lindner GmbH & Co. KG, Steige 3, D-88487 Walpertshofen, Germany; phone: +49 (0) 7353 22 43; email: info@LTB-Lindner.com; website: https://www.ltb-lindner.com. You may view this service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2021-0944; or in person at Docket Operations between 9 a.m. and 5 p.m., Monday through Friday, except Federal holidays. The AD docket contains this NPRM, the MCAI, any comments received, and other information. The street address for Docket Operations is listed above.

FOR FURTHER INFORMATION CONTACT: Jim Rutherford, Aviation Safety Engineer, General Aviation & Rotorcraft Section, International Validation Branch, FAA, 901 Locust, Room 301, Kansas City, MO 64106; phone: (816) 329-4165; fax: (816) 329-4090; email: jim.rutherford@faa.gov.

SUPPLEMENTARY INFORMATION:

Comments Invited

The FAA invites you to send any written relevant data, views, or arguments about this proposal. Send your comments to an address listed under ADDRESSES. Include “Docket No. FAA-2021-0944; Project Identifier MCAI-2020-00800-G” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Jim Rutherford, Aviation Safety Engineer, FAA, General Aviation & Rotorcraft Section, International Validation Branch, FAA, 901 Locust, Room 301, Kansas City, MO 64106. Any commentary that the FAA receives which is not specifically designated as CBI will be placed in the public docket for this rulemaking.

Background

The European Union Aviation Safety Agency (EASA), which is the Technical Agent for the Member States of the European Union, has issued EASA AD 2020-0138, dated June 19, 2020 (referred to after this as “the MCAI”), to address an unsafe condition on Fiberglas-Technik R. Lindner GmbH & Co. KG Model ASTIR CS, ASTIR CS 77, ASTIR CS Jeans, CLUB ASTIR II, STANDARD ASTIR II, TWIN ASTIR, TWIN ASTIR TRAINER, GROB G 103 “TWIN II,” GROB G 103 A “TWIN II ACRO,” GROB G 103 C “TWIN III,” GROB G 103 C “TWIN III ACRO,” GROB G 103 C TWIN III SL, ASTIR CS 77 TOP, ASTIR CS JEANS TOP, and ASTIR CS TOP gliders. The MCAI states:

During a routine inspection, a severely corroded elevator control pushrod was found in the vertical fin on a Grob TWIN ASTIR sailplane. The technical investigation results revealed that water had soaked into the elevator control pushrod, causing the corrosion damage and subsequent considerable weakening of the steel tube pushrod.

This condition, if not detected and corrected, could lead to failure of the elevator control pushrod, possibly resulting in loss of control of the sailplane.

To address this unsafe condition, Fiberglas-Technik R. Lindner GmbH & Co.KG published the [technische mitteilung/service bulletin] TM/SB and [anweisung/instructions] A/I-G09, at original issue, providing instructions for elevator control pushrod inspection and replacement. Prompted by this development, EASA issued AD 2020-0121 to require a one-time inspection of the elevator control pushrod in the vertical fin and, depending on findings, replacement.

After EASA AD 2020-0121 was issued, it was determined that Grob G 103 “TWIN II” sailplanes, and additional Grob G 103 A “TWIN II ACRO” sailplanes, are also prone to elevator control pushrod corrosion and Fiberglas-Technik R.Lindner GmbH & Co.KG issued the TM/SB to make the inspection instructions applicable to these sailplane models.

For the reasons described above, this [EASA] AD retains the requirements of EASA AD 2020-0121, which is superseded, and expands the Applicability.

You may examine the MCAI in the AD docket at https://www.regulations.gov by searching for and locating Docket No. FAA-2021-0944.

FAA's Determination

This product has been approved by the aviation authority of another country and is approved for operation in the United States. Pursuant to the FAA's bilateral agreement with this State of Design Authority, it has notified the FAA of the unsafe condition described in the MCAI and service information referenced above. The FAA is issuing this NPRM after determining that the unsafe condition described previously is likely to exist or develop on other products of the same type design.

Related Service Information Under 1 CFR Part 51

The FAA reviewed Fiberglas-Technik Rudolf Lindner Anweisung/Instructions (A/I-G09), Revision 1, dated May 14, 2020. This service information provides instructions to inspect the elevator control pushrod for water and corrosion, replace the elevator control pushrod if any water or corrosion is found, and apply corrosion prevention if no water and no corrosion are found. This service information is reasonably available because the interested parties have access to it through their normal course of business or by the means identified in ADDRESSES.

Other Related Service Information

The FAA also reviewed Fiberglas-Technik Rudolf Lindner Service Bulletin (SB-G09), Revision 1, dated May 14, 2020. This service information refers to the instructions in A/I-G09 to inspect and replace the elevator control pushrod on various gliders.

The FAA reviewed Grob TFE Service Bulletin TM 315-34, dated December 8, 1987. This service information provides effectivity, reason, and high-level instructions for inspecting and replacing the elevator control pushrod on certain Model G 103 A TWIN II ACRO gliders.

The FAA reviewed Grob TFE Repair Instructions No. 315-34 for Service Bulletin TM 315-34, dated December 8, 1987. This service information provides more detailed instructions for inspecting and replacing the elevator control pushrod on certain Model G 103 A TWIN II ACRO gliders.

Proposed AD Requirements

This proposed AD would require inspecting the elevator control pushrod and replacing it if water or corrosion are found.

Differences Between This Proposed AD and the MCAI

The MCAI applies to Model ASTIR CS 77, ASTIR CS Jeans, CLUB ASTIR II, STANDARD ASTIR II, TWIN ASTIR TRAINER, GROB G 103 C “TWIN III,” ASTIR CS 77 TOP, ASTIR CS JEANS TOP, and ASTIR CS TOP gliders. This proposed AD would not apply to these model gliders because they do not have an FAA type certificate.

Costs of Compliance

The FAA estimates that this AD, if adopted as proposed, would affect 149 gliders of U.S. registry. The FAA estimates that it would take about 4 work-hours per glider to inspect the elevator control pushrod and require parts costing $100. The average labor rate is $85 per work-hour. Based on these figures, the FAA estimates the cost to inspect the elevator control pushrod on U.S. operators to be $65,560 or $440 per glider.

In addition, the FAA estimates that for gliders with water or corrosion within the elevator control pushrod, replacement would take about 8 work-hours and require parts costing $500. The average labor rate is $85 per work-hour. Based on these figures, the FAA estimates the replacement of this proposed AD to be $1,180 per glider.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Fiberglas-Technik Rudolf Lindner GmbH & Co. KG (Type Certificate Previously Held by GROB Aircraft AG, Grob Aerospace GmbH i.l., Grob Aerospace GmbH, Burkhart Grob Luft-und Raumfahrt GmbH & Co. KG): Docket No. FAA-2021-0944; Project Identifier MCAI-2020-00800-G.

(a) Comments Due Date

The FAA must receive comments on this airworthiness directive (AD) by December 13, 2021.

(b) Affected ADs

None.

(c) Applicability

This AD applies to the following gliders, all serial numbers, certificated in any category:

(1) Fiberglas-Technik Rudolf Lindner GmbH & Co. KG (type certificate previously held by GROB Aircraft AG, Grob Aerospace GmbH i.l., Grob Aerospace GmbH, Burkhart Grob Luft-und Raumfahrt GmbH & Co. KG, GROB TFE, GROB-WERKE GMBH & CO KG (a division of Burkhart Grob Flugzeugbau)) Model G102 ASTIR CS.

(2) Fiberglas-Technik Rudolf Lindner GmbH & Co. KG (type certificate previously held by GROB Aircraft AG, Grob Aerospace GmbH i.l., Grob Aerospace GmbH, Burkhart Grob Luft-und Raumfahrt GmbH & Co. KG)) Model G103 TWIN ASTIR, G103 TWIN II, G103A TWIN II ACRO, G103 C TWIN III ACRO, and G 103 C TWIN III SL.

(d) Subject

Joint Aircraft System Component (JASC) Code 2730, Elevator Control System.

(e) Unsafe Condition

This AD was prompted by mandatory continuing airworthiness information (MCAI) issued by the aviation authority of another country to identify and correct an unsafe condition on an aviation product. The MCAI describes the unsafe condition as corrosion on the elevator control pushrod. The unsafe condition, if not addressed, could result in failure of the elevator control pushrod and loss of control of the glider.

(f) Compliance

Comply with this AD within the compliance times specified, unless already done.

(g) Required Actions

(1) Within 25 hours time in service (TIS) after the effective date of this AD, inspect the elevator control pushrod in the vertical fin for water and corrosion, and replace the elevator control pushrod before further flight if there is any water or corrosion in accordance with the Actions and Instructions, paragraph 3, of Fiberglas-Technik Rudolf Lindner Anweisung/Instructions (A/I-G09), Revision 1, dated May 14, 2020.

(2) If no water and no corrosion is detected, before further flight, treat the inside of the elevator control pushrod with corrosion preventative LPS 3 or equivalent.

(3) If required by paragraph (g)(1) of this AD, you must replace the elevator control pushrod before further flight with an elevator control pushrod that has zero hours TIS or with an elevator control pushrod that has passed the inspection in accordance with paragraphs (g)(1) and (2) of this AD.

(h) Credit for Previous Actions

You may take credit for the actions required by paragraphs (g)(1) and (2) of this AD if you performed these actions before the effective date of this AD using Fiberglas-Technik Rudolf Lindner Anweisung/Instructions (A/I-G09), dated April 8, 2020.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD or email: 9-AVS-AIR-730-AMOC@faa.gov.

(2) Before using any approved AMOC, notify your appropriate principal inspector, or lacking a principal inspector, the manager of the local flight standards district office/certificate holding district office.

(j) Related Information

(1) For more information about this AD, contact Jim Rutherford, Aviation Safety Engineer, General Aviation & Rotorcraft Section, International Validation Branch, FAA, 901 Locust, Room 301, Kansas City, MO 64106; phone: (816) 329-4165; fax: (816) 329-4090; email: jim.rutherford@faa.gov.

(2) Refer to European Union Aviation Safety Agency (EASA) AD 2020-0138, dated June 19, 2020, for more information. You may examine the EASA AD in the AD docket at https://www.regulations.gov by searching for and locating it in Docket No. FAA-2021-0944.

(3) For service information identified in this AD, contact Fiberglas-Technik Rudolf Lindner GmbH & Co. KG, Steige 3, D-88487 Walpertshofen, Germany; phone: +49 (0) 7353 22 43; email: info@LTB-Lindner.com; website: https://www.ltb-lindner.com. You may view this referenced service information at the FAA, Airworthiness Products Section, Operational Safety Branch, 901 Locust, Kansas City, MO 64106. For information on the availability of this material at the FAA, call (816) 329-4148.

Issued on October 21, 2021.
Lance T. Gant,
Director, Compliance & Airworthiness Division, Aircraft Certification Service.

[FR Doc. 2021-23325 Filed 10-28-21; 8:45 am]

BILLING CODE 4910-13-P